DEPARTMENT OF LABOR

Employment and Training Administration

[TA-W-59,929]

Cochrane Furniture Company, Case Division Currently Known as CR Home, Inc., Lincolnton, NC; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on September 20, 2006, applicable to workers of Cochrane Furniture Company, Case Division, Lincolnton, North Carolina. The notice will be published soon in the Federal Register.

At the request of a company official, the Department reviewed the certification for workers of the subject firm. The workers are engaged in the production of case goods furniture (bedroom and dining room furniture).

New information shows that following a company name change, in mid June 2007, Cochrane Furniture Company, Case Division is currently known as CR Home, Inc. Workers separated from employment at the subject firm had their wages reported under a separate unemployment insurance (UI) tax account for CR Home, Inc.

Accordingly, the Department is amending this certification to properly reflect this matter.

The intent of the Department's certification is to include all workers of Cochrane Furniture Company, Case Division, now known as CR Home, Inc. who were adversely affected by increased company imports.

The amended notice applicable to TA-W-59,929 is hereby issued as follows:

“All workers of Cochrane Furniture Company, Case Division, now known as CR Home, Inc., Lincolnton, North Carolina, who became totally or partially separated from employment on or after August 18, 2005, through September 20, 2008, are eligible to apply for adjustment assistance under Section 223 of the Trade Act of 1974, and are also eligible to apply for alternative trade adjustment assistance under Section 246 of the Trade Act of 1974.”

Signed at Washington, DC, this 17th day of July 2007.
Elliott S. Kushner,
Certifying Officer, Division of Trade Adjustment Assistance.

[FR Doc. E7-14221 Filed 7-23-07; 8:45 am]

BILLING CODE 4510-FN-P